DEPARTMENT OF COMMERCE

International Trade Administration

[A-570-855]

Notice of Continuation of Antidumping Duty Order on Certain Non-Frozen Apple Juice Concentrate from the People's Republic of China

AGENCY: Import Administration, International Trade Administration, Department of Commerce.

EFFECTIVE DATE: November 2, 2005.

FOR FURTHER INFORMATION CONTACT: Maureen Flannery at (202) 482-3020 or Frances Veith at (202) 482-4295, AD/CVD Operations, International Trade Administration, U.S. Department of Commerce, 14th Street and Constitution Avenue, NW, Washington, DC, 20230.

SUMMARY: The U.S. Department of Commerce (Department), pursuant to section 751(c) of the Tariff Act of 1930, as amended (the Act), has determined that revocation of the antidumping duty order on certain non-frozen apple juice concentrate (NFAJC) from the People's Republic of China (PRC) would likely lead to continuation or recurrence of dumping. On October 21, 2005, the International Trade Commission (ITC), pursuant to section 751(c) of the Act, determined that revocation of the antidumping duty order on certain NFAJC from the PRC would likely lead to continuation or recurrence of material injury to an industry in the United States within a reasonably foreseeable time. Therefore, pursuant to 19 CFR 351.218(f)(4), the Department is publishing notice of the continuation of the antidumping duty order on certain NFAJC from the PRC.

SUPPLEMENTARY INFORMATION:

Background

On May 2, 2005, the Department initiated, and the ITC instituted, a sunset review of the antidumping duty order on certain NFAJC from the PRC, pursuant to section 751(c) of the Act. See Initiation of Five-year (Sunset) Reviews, 70 FR 22632 (May 2, 2005) and Non-Frozen Concentrate Apple Juice from China, 70 FR 22694 (May 2, 2005). As a result of its review, the Department found that revocation of the antidumping duty order would likely lead to continuation or recurrence of dumping and notified the ITC of the magnitude of the margins likely to prevail were the order revoked. See Non-Frozen Apple Juice Concentrate from the People's Republic of China (PRC); Notice of Final Results of Expedited Sunset Review of Antidumping Duty Order, 70 FR 53339 (September 8, 2005). On October 21, 2005, the ITC determined, pursuant to section 751(c) of the Act, that revocation of the antidumping duty order on certain NFAJC would likely lead to continuation or recurrence of material injury to an industry in the United States within a reasonably foreseeable time. See Non-Frozen Concentrated Apple Juice from China, 70 FR 61309 (October 21, 2005).

Scope of the Order

The product covered by this antidumping order is certain NFAJC. Certain NFAJC is defined as all non-frozen concentrated apple juice with a Brix scale of 40 or greater, whether or not containing added sugar or other sweetening matter, and whether or not fortified with vitamins or minerals. Excluded from the scope of this order are: frozen concentrated apple juice; non-frozen concentrated apple juice that has been fermented; and non-frozen concentrated apple juice to which spirits have been added.

The merchandise subject to this order is currently classifiable in the Harmonized Tariff Schedule of the United States (HTSUS) at subheadings 2106.90.52.00, and 2009.70.00.20 before January 1, 2002, and 2009.79.00.20 on or after January 1, 2002. Although the HTSUS subheadings are provided for convenience and customs purposes, the written description of the scope of the order is dispositive.

Determination

As a result of the determinations by the Department and the ITC that revocation of this antidumping duty order would be likely to lead to continuation or recurrence of dumping and material injury to an industry in the United States, pursuant to section 751(d)(2) of the Act, the Department hereby orders the continuation of the antidumping duty order on certain NFAJC from the PRC. U.S. Customs and Border Protection will continue to collect antidumping duty deposits at the rates in effect at the time of entry for all imports of subject merchandise. The effective date of continuation of this order is the date of publication of the Federal Register of this Notice of Continuation in accordance with 19 CFR 351.218(f)(4). Pursuant to sections 751(c)(2) and 751(c)(6) of the Act, the Department intends to initiate the next five-year review of this order not later than October 2010.

We are issuing and publishing the results and notice in accordance with sections 751(c) and 752, and 777(i)(1) of the Act.

Dated: October 27, 2005.
Stephen J. Claeys,
Deputy Assistant Secretary for Import Administration.

[FR Doc. 05-21865 Filed 11-1-05; 8:45 am]

BILLING CODE 3510-DS-S